DEPARTMENT OF JUSTICE

Bureau of Prisons

28 CFR Part 571

[BOP-1154-F]

RIN 1120-AB54

Commutation of Sentence: Technical Change

AGENCY: Bureau of Prisons, Justice.

ACTION: Final rule.

SUMMARY: This document finalizes a minor technical change to the Bureau of Prisons (Bureau) regulations on sentence commutation which clarifies that Bureau staff, other than institution-level staff, will recalculate the inmate's sentence in accordance with the terms of the commutation order if a petition for commutation of sentence is granted.

DATES: This rule is effective on August 6, 2015.

FOR FURTHER INFORMATION CONTACT: Sarah Qureshi, Office of General Counsel, Bureau of Prisons, phone (202) 307-2105.

SUPPLEMENTARY INFORMATION: This document finalizes a minor technical change to the Bureau regulations on sentence commutation which clarifies that Bureau staff other than institution-level staff will recalculate the inmate's sentence in accordance with the terms of the commutation order if a petition for commutation of sentence is granted. That function is currently completed by the Bureau's Designation and Computation Center (DSCC), located in Grand Prairie, Texas. We received no comments on the interim rule that was published on March 23, 2010.

For the aforementioned reasons, the interim rule on this subject on that was published on March 23, 2010 (75 FR 13680) is adopted as final without change.

Executive Order 12866

This regulation has been drafted and reviewed in accordance with Executive Order 12866, “Regulatory Planning and Review”, section 1(b), Principles of Regulation. The Director of the Bureau of Prisons has determined that this rule is not a “significant regulatory action” under Executive Order 12866, section 3(f), and accordingly this rule has not been reviewed by the Office of Management and Budget.

Executive Order 13132

This regulation will not have substantial direct effects on the States, on the relationship between the national government and the States, or on distribution of power and responsibilities among the various levels of government. Therefore, under Executive Order 13132, we determine that this rule does not have sufficient federalism implications to warrant the preparation of a Federalism Assessment.

Regulatory Flexibility Act

The Director of the Bureau of Prisons, under the Regulatory Flexibility Act (5 U.S.C. 605(b)), reviewed this regulation and by approving it certifies that it will not have a significant economic impact upon a substantial number of small entities for the following reasons: This rule pertains to the correctional management of offenders committed to the custody of the Attorney General or the Director of the Bureau of Prisons, and its economic impact is limited to the Bureau's appropriated funds.

Unfunded Mandates Reform Act of 1995

This rule will not result in the expenditure by State, local and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 571

Prisoners.

Accordingly, the interim rule on this subject amending 28 CFR part 571 that was published on March 23, 2010 (75 FR 13680) is adopted as final without change.

L.C. Eichenlaub,
Deputy Director, Bureau of Prisons.

[FR Doc. 2015-16635 Filed 7-6-15; 8:45 am]

BILLING CODE 4410-05-P